DEPARTMENT OF COMMERCE

International Trade Administration

[A-533-810]

Stainless Steel Bar From India: Extension of Time Limit for the Preliminary Results of the 2010-2011 Antidumping Duty Administrative Review

AGENCY: Import Administration, International Trade Administration, Department of Commerce.

DATES: Effective Date: February 3, 2012.

FOR FURTHER INFORMATION CONTACT: Joseph Shuler or Yasmin Nair, AD/CVD Operations, Office 1, Import Administration, International Trade Administration, U.S. Department of Commerce, 14th Street and Constitution Avenue NW., Washington, DC 20230; telephone (202) 482-1293 and (202) 482-3813, respectively.

SUPPLEMENTARY INFORMATION:

Background

On March 31, 2011, the Department of Commerce (Department) published in the Federal Register its initiation of an administrative review of the antidumping duty order on stainless steel bar from India, covering the period February 1, 2010, through January 31, 2011. See Initiation of Antidumping Duty Administrative Reviews, Requests for Revocation in Part, and Deferral of Administrative Review, 76 FR 17825 (March 31, 2011) (Initiation Notice). On October 11, 2011, the Department published an extension notice for the preliminary results for this review extending the deadline to January 30, 2012. See Stainless Steel Bar From India: Extension of Time Limit for the Preliminary Results of the 2010-2011 Antidumping Duty Administrative Review, 76 FR 62761 (October 11, 2011).

Extension of Time Limit for the Preliminary Results of Review

Section 751(a)(3)(A) of the Tariff Act of 1930, as amended (the Act), requires the Department to issue its preliminary results in an administrative review of an antidumping duty order within 245 days after the last day of the anniversary month of the order for which the administrative review was requested. However, if the Department determines that it is not practicable to complete the review within the aforementioned specified time limits, section 751(a)(3)(A) of the Act and 19 CFR 351.213(h)(2) allow the Department to extend the time limit for the preliminary results to a maximum of 365 days after the last day of the anniversary month. See section 751(a)(3)(A) of the Act and 19 CFR 351.213(h)(2).

The Department has determined that it requires additional time to complete the preliminary results for this review. The Department needs additional time to issue a supplemental questionnaire regarding the reporting period for sales and to analyze the response. Thus, it is not practicable to complete the preliminary results by January 30, 2012, and the Department is extending the time limit for completion of the preliminary results by an additional 30 days to February 28, 2012. Accordingly, the deadline for completion of the preliminary results is now no later than February 28, 2012.

This notice is published pursuant to sections 751(a)(3)(A) of the Act and 19 CFR 351.213(h)(2).

Dated: January 27, 2012.
Gary Taverman,
Acting Deputy Assistant Secretary for Antidumping and Countervailing Duty Operations.

[FR Doc. 2012-2480 Filed 2-2-12; 8:45 am]

BILLING CODE 3510-DS-P